DEPARTMENT OF HOUSING AND URBAN DEVELOPMENT

[Docket No. FR-6420-N-01]

Preview of The Pathways To Removing Obstacles to Housing (Pro Housing); Funding Opportunity

AGENCY: Office of Community Planning and Development, U.S. Department of Housing and Urban Development (HUD).

ACTION: Notice of funding opportunity.

SUMMARY: Through this notice, HUD is announcing the publication of a preview of the Pathways to Removing Obstacles to Housing (PRO Housing) Notice of Funding Opportunity (NOFO) in advance of publication on Grants.gov. HUD is making this preview available to allow interested applicants to review the preview of the NOFO, submit questions, and prepare applications. HUD intends to publish the NOFO and allow submission of applications in September of 2023.

FOR FURTHER INFORMATION CONTACT: Jessie Handforth Kome, Director, Office of Block Grant Assistance, Office of Community Planning and Development, Department of Housing and Urban Development, 451 7th Street SW, Room 7282, Washington, DC 20410, telephone number 202-708-3587 x5539. Facsimile inquiries may be sent to Ms. Jessie Handforth Kome at 202-708-0033. These telephone numbers are not toll-free. HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: HUD is publishing a preview of the PRO Housing NOFO to give interested applicants time to prepare their applications prior to the opening of the application period. HUD expects that this preview will be available for at least 30 days before HUD publishes the official NOFO on Grants.gov and begins to take applications. During this preview, the PRO Housing NOFO preview is available on HUD's website at the following URL: https://www.hud.gov/grants.

This NOFO preview is subject to change. While HUD does not intend to make substantive changes at this point, applicants should consider the NOFO published on Grants.gov to be the official version.

HUD will not accept applications during the preview period. However, during this preview, interested applicants may submit questions on the NOFO preview to the following email address: CDBG-PROHousing@hud.gov (see Section VII of the NOFO preview). Interested applicants may also conduct the required registration activities for the System for Award Management (SAM), Unique Entity Identifier (UEI), and Grants.gov (see Section IV.C. of the NOFO preview).

HUD strongly encourages interested applicants to begin working on their application during the preview period as the NOFO requires public participation (see Section VI.E.5.a.iii of the NOFO preview). Please note that while interested applicants may work on their applications and accompanying materials during the preview period, the NOFO requires that no materials to be submitted be signed before the date the NOFO is published on Grants.gov.

HUD anticipates that the PRO Housing NOFO will be published on Grants.gov in September 2023. The publication of the PRO Housing NOFO on Grants.gov will signal the opening of the application period. The application period will be open for at least 30 days, with applications due October 30, 2023. Applications must be submitted through Grants.gov.

HUD will not accept requests for a waiver of electronic submission requirements during the preview period. Such requests may only be submitted once the NOFO has been published on Grants.gov (see Section IV.A. of the NOFO preview).

Jessie Kome,
Director, Office of Block Grant Assistance.

[FR Doc. 2023-16266 Filed 7-27-23; 11:15 am]

BILLING CODE 4210-67-P